Proclamation 8575 of October 1, 2010

National Domestic Violence Awareness Month, 2010

By the President of the United States of America

A Proclamation

In the 16 years since the passage of the Violence Against Women Act (VAWA), we have broken the silence surrounding domestic violence to reach thousands of survivors, prevent countless incidences of abuse, and save untold numbers of lives. While these are critical achievements, domestic violence remains a devastating public health crisis when one in four women will be physically or sexually assaulted by a partner at some point in her lifetime. During Domestic Violence Awareness Month, we recognize the tremendous progress made in reducing domestic violence, and we recommit to making everyone’s home a safe place for them.

My Administration is committed to reducing the prevalence of domestic violence. Last year, I appointed the first-ever White House Advisor on Violence Against Women to collaborate with the many Federal agencies working together to end domestic violence in this country. Together with community efforts, these Federal programs are making important strides towards eliminating abuse.

The landmark Affordable Care Act also serves as a lifeline for domestic violence victims. Before I signed this legislation in March, insurance companies in eight States and the District of Columbia were able to classify domestic violence as a pre-existing condition, leaving victims at risk of not receiving vital treatment when they are most vulnerable. Now, victims need not fear the additional burden of increased medical bills as they attempt to protect themselves and rebuild their lives.

Individuals of every race, gender, and background face domestic violence, but some communities are disproportionately affected. In order to combat the prevalence of domestic violence and sexual assault in tribal areas, I signed the Tribal Law and Order Act to strengthen tribal law enforcement and its ability to prosecute and fight crime more effectively. This important legislation will also help survivors of domestic violence get the medical attention, services, support, and justice they need.

Children exposed to domestic violence, whether victims or witnesses, also need our help. Without intervention, they are at higher risk for failure in school, emotional disorders, substance abuse, and perpetrating violent behavior later in life. That is why my Administration has launched the “Defending Childhood” initiative at the Department of Justice to revitalize prevention, intervention, and response systems for children exposed to violence. The Department of Health and Human Services is also expanding services and enhancing community responses for children exposed to violence.

Ending domestic violence requires a collaborative effort involving every part of our society. Our law enforcement and justice system must work to hold offenders accountable and to protect victims and their children. Business, faith, and community leaders, as well as educators, health care providers, and human service professionals, also have a role to play in communicating that domestic violence is always unacceptable. As a Nation, we must endeavor to protect survivors, bring offenders to justice, and change attitudes that support such violence. I encourage victims, their loved ones, and concerned citizens to call the National Domestic Violence Hotline at 1-800-799 SAFE or visit: www.TheHotline.org.

This month—and throughout the year—let each of us resolve to be vigilant in recognizing and combating domestic violence in our communities, and let us build a culture of safety and support for all those affected.

NOW, THEREFORE, I, BARACK OBAMA, President of the United States of America, by virtue of the authority vested in me by the Constitution and the laws of the United States, do hereby proclaim October 2010 as National Domestic Violence Awareness Month. I call on all Americans to speak out against domestic violence and support local efforts to assist victims of these crimes in finding the help and healing they need.

IN WITNESS WHEREOF, I have hereunto set my hand this first day of October, in the year of our Lord two thousand ten, and of the Independence of the United States of America the two hundred and thirty-fifth.

[FR Doc. 2010-25575

Filed 10-7-10; 8:45 am]

Billing code 3195-W1-P